FEDERAL COMMUNICATIONS COMMISSION

47 CFR Parts 1 and 25

[IB Docket Nos. 02-34 and 02-54, FCC 03-102]

Satellite Licensing Procedures

AGENCY: Federal Communications Commission.

ACTION: Final rule; correction.

SUMMARY: The Federal Communications Commission published in the Federal Register of August 27, 2003 (68 FR 51499), a document revising the procedures for issuing satellite licenses. Inadvertently, the effective date for §§ 25.137(d)(4), 25.164(c) through (e), and 25.165 was stated as September 11, 2003. This document stays these rules until October 27, 2003.

DATES: Effective October 14, 2003. Sections 25.137(d)(4), 25.164(c) through (e), and 25.165, published at 68 FR 51499 are stayed until October 27, 2003.

FOR FURTHER INFORMATION CONTACT: Steven Spaeth, Attorney Advisor, Satellite Division, International Bureau, telephone (202) 418-1539 or via the Internet at steven.spaeth@fcc.gov.

SUPPLMENTARY INFORMATION: The Commission published a document in the Federal Register of August 27, 2003 (68 FR 51499), adopting §§ 25.137(d)(4), 25.164(c) through (e), and 25.165, and adopting an effective date of September 11, 2003 for these provisions. This document stays these provisions until October 27, 2003.

Federal Communications Commission.
Marlene H. Dortch,
Secretary.

[FR Doc. 03-25740 Filed 10-10-03; 8:45 am]

BILLING CODE 6712-01-P